DEPARTMENT OF COMMERCE

International Trade Administration

[A-570-890]

Wooden Bedroom Furniture From the People's Republic of China: Final Results of Antidumping Duty Administrative Review; 2020

AGENCY: Enforcement and Compliance, International Trade Administration, Department of Commerce.

SUMMARY: The Department of Commerce (Commerce) continues to determine that the sole respondent under review, Hui Zhou Tian Mei Investment Co., Ltd. (aka Hui Zhou Tian Mei Furniture Co., Ltd.) (Tian Mei), is not eligible for a separate rate and is therefore a part of the China-wide entity. The period of review (POR) is January 1, 2020 through December 31, 2020.

DATES: Applicable April 11, 2022.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Background

On October 7, 2021, Commerce published in the Federal Register the preliminary results of the 2020 administrative review of the antidumping duty (AD) order on wooden bedroom furniture (WBF) from the People's Republic of China (China).¹ We invited interested parties to comment on the Preliminary Results. On February 1, 2022, Commerce extended the deadline to issue the final results of this review until April 5, 2022.² A full description of case events that occurred since issuance of the Preliminary Results, is in the Issues and Decision Memorandum.³

¹ See Wooden Bedroom Furniture from the People's Republic of China: Preliminary Results and Partial Rescission of Antidumping Duty Administrative Review; 2020, 86 FR 55809 (October 7, 2021) (Preliminary Results).

² See Memorandum, “Antidumping Duty Administrative Review of Wooden Bedroom Furniture from the People's Republic of China: Extension of Deadline for Final Results of Antidumping Duty Administrative Review,” dated February 1, 2022.

³ See Memorandum, “Issues and Decision Memorandum for the Final Results of the Antidumping Duty Administrative Review: Wooden Bedroom Furniture from the People's Republic of China; 2020,” dated concurrently with, and hereby adopted by, this notice (Issues and Decision Memorandum).

Scope of the Order

The product covered by the Order is wooden bedroom furniture, subject to certain exceptions.⁴ Imports of subject merchandise are classified under the Harmonized Tariff Schedule of the United States (HTSUS) subheadings: 9403.50.9042, 9403.50.9045, 9403.50.9080, 9403.90.7005, 9403.90.7080, 9403.50.9041, 9403.60.8081, 9403.20.0018, 9403.90.8041, 7009.92.1000 or 7009.92.5000. Although the HTSUS subheadings are provided for convenience and customs purposes, the written description of the scope of the Order is dispositive.⁵

⁴ See Notice of Amended Final Determination of Sales at Less Than Fair Value and Antidumping Duty Order: Wooden Bedroom Furniture from the People's Republic of China, 70 FR 329 (January 4, 2005) (Order).

⁵ For a complete description of the scope of the Order, see Wooden Bedroom Furniture from the People's Republic of China: Final Results of Antidumping Duty Administrative Review and Final Determination of No Shipments; 2018, 85 FR 7731 (February 11, 2020); see also Memorandum, “Decision Memorandum for the Preliminary Results of the Antidumping Duty Administrative Review: Wooden Bedroom Furniture from the People's Republic of China,” dated October 2, 2019.

Methodology

Commerce conducted this review in accordance with section 751(a)(1)(B) of the Tariff Act of 1930, as amended (the Act). For a discussion of the comment received, see the Issues and Decision Memorandum.⁶ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁶ See Issues and Decision Memorandum.

Final Results of Review

Consistent with the Preliminary Results, we continue to determine that the sole respondent under review, Tian Mei, did not establish its eligibility for a separate rate and is part of the China-wide entity. No parties commented on this decision.

Assessment Rates

Pursuant to section 751(a)(2)(C) of the Act and 19 CFR 351.212(b), Commerce has determined, and U.S. Customs and Border Protection (CBP) shall assess, antidumping duties on all appropriate entries of subject merchandise in accordance with the final results of this review. No earlier than 35 days after the date of publication of this notice in the Federal Register, Commerce intends to instruct CBP to liquidate any entries of subject merchandise from Tian Mei that entered the United States during the POR at the China-wide rate (i.e., 216.01 percent). If a timely summons is filed at the U.S. Court of International Trade, the assessment instructions will direct CBP not to liquidate relevant entries until the time for parties to file a request for a statutory injunction has expired (i.e., within 90 days of publication).

Cash Deposit Requirements

The following cash deposit requirements will be effective upon publication of this notice in the Federal Register for all shipments of subject merchandise from China entered, or withdrawn from warehouse, for consumption on or after the publication date of this notice, as provided by section 751(a)(2)(C) of the Act: (1) For previously investigated or reviewed China and non-China exporters which are not under review in this review, but which received a separate rate in a prior segment of this proceeding, the cash deposit rate will continue to be the exporter's existing cash deposit rate; (2) for all China exporters of subject merchandise that do not have a separate rate, the cash deposit rate will be the China-wide entity rate (i.e., 216.01 percent); and (3) for all non-China exporters of subject merchandise that do not have their own rate, the cash deposit rate will be the rate applicable to the China exporter(s) that supplied that non-China exporter. These deposit requirements, when imposed, shall remain in effect until further notice.

Notification to Importers

This notice serves as a final reminder to importers of their responsibility under 19 CFR 351.402(f)(2) to file a certificate regarding the reimbursement of antidumping duties/and or countervailing duties prior to liquidation of the relevant entries during the POR. Failure to comply with this requirement could result in Commerce's presumption that reimbursement of antidumping duties occurred and the subsequent assessment of double antidumping duties.

Administrative Protective Orders

This notice also serves as a final reminder to parties subject to an administrative protective order (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Notification to Interested Parties

We are issuing and publishing these final results of administrative review in accordance with sections 751(a)(1) and 777(i)(1) of the Act and 19 CFR 351.221(b)(5) and 19 CFR 351.213(h)(1).

Dated: April 5, 2022.
Lisa W. Wang,
Assistant Secretary for Enforcement and Compliance.

Appendix

List of Topics Discussed in the Issues and Decision Memorandum

I. Summary

II. Background

III. Scope of the Order

IV. Discussion of the Issue

Comment: Whether Commerce Should Extend the Deadline to Issue the Final Results

V. Recommendation

[FR Doc. 2022-07728 Filed 4-8-22; 8:45 am]

BILLING CODE 3510-DS-P